DEPARTMENT OF HOMELAND SECURITY

Federal Emergency Management Agency

[Docket ID FEMA-2010-0032]

Federal Radiological Preparedness Coordinating Committee

AGENCY: Federal Emergency Management Agency, DHS.

ACTION: Notice of public meeting.

SUMMARY: The Federal Radiological Preparedness Coordinating Committee (FRPCC) is holding a public meeting on February 24, 2012 in Arlington, VA.

DATES: The meeting will take place on February 24, 2012. The session is open to the public from 9:00 a.m. to 10:00 a.m. Send written statements and requests to make oral statements to the contact person in the FOR FURTHER INFORMATION CONTACT section by close of business February 17, 2012.

ADDRESSES: The meeting will be held at the Radisson Hotel Reagan National Airport in Salons III and IV at 2020 Jefferson Davis Highway, Arlington, VA 22202.

FOR FURTHER INFORMATION CONTACT: Richard Collins, Program Specialist (Emergency Management), DHS/FEMA, 1800 South Bell Street—CC858, Mail Stop 3025, Arlington, VA 20598-3025; telephone (202) 212-4357; fax (703) 305-0837; or email richard.collins@dhs.gov.

SUPPLEMENTARY INFORMATION: The role and functions of the Federal Radiological Preparedness Coordinating Committee (FRPCC) are described in 44 CFR 351.10(a) and 351.11(a). The FRPCC is holding a public meeting on February 24, 2012 from 9 a.m. to 10 a.m., at the Radisson Hotel Reagan National Airport in Salons I, II and III at 2020 Jefferson Davis Highway, Arlington, VA 22202. Please note that the meeting may close early. This meeting is open to the public. Public meeting participants must pre-register to be admitted to the meeting. To pre-register, please provide your name and telephone number by close of business on February 17, 2012, to the individual listed in the FOR FURTHER INFORMATION CONTACT section.

The tentative agenda for the FRPCC meeting includes: (1) Introductions, (2) Presidential Policy Directive 8 (PPD-8) Relationship to the National Response Framework (NRF), (3) FRPCC Charter Re-Write Update, (4) Nuclear Incident Response Team Project Update, (5) Radiation Team Resource Typing Update, (6) Nuclear Sector Specific Agency Update, (7) Human Capital Crisis In Radiation Safety. The FRPCC Co-Chairs shall conduct the meeting in a way that will facilitate the orderly conduct of business. Reasonable provisions will be made, if time permits, for oral statements from the public of not more than five minutes in length. Any member of the public who wishes to make an oral statement at the meeting should send a written request for time by close of business on February 17, 2012, to the individual listed in the FOR FURTHER INFORMATION CONTACT section. Any member of the public who wishes to file a written statement with the FRPCC should provide the statement by close of business on February 17, 2012, to the individual listed in the FOR FURTHER INFORMATION CONTACT section.

Information on Services for Individuals With Disabilities

For information on facilities or services for individuals with disabilities or to request special assistance at the meeting, please write or call the individual listed in the FOR FURTHER INFORMATION CONTACT section as soon as possible.

Authority: 44 CFR 351.10(a); 351.11(a).

Dated: February 6, 2012.
Timothy W. Manning,
Deputy Administrator, Protection and National Preparedness, Department of Homeland Security, Federal Emergency Management Agency.

[FR Doc. 2012-3206 Filed 2-10-12; 8:45 am]

BILLING CODE 9110-21-P